DEPARTMENT OF HEALTH AND HUMAN SERVICES

National Institutes of Health

Center for Scientific Review; Amended Notice of Meeting

Notice is hereby given of a change in the meeting of the Integrative and Clinical Endocrinology and Reproduction Study Section, October 23, 2013, 08:00 a.m. to October 23, 2013, 05:00 p.m., Sheraton Silver Spring Hotel, 8777 Georgia Avenue, Silver Spring, MD 20910 which was published in the Federal Register on October 01, 2013, 78 FR 60294-60296.

The meeting will be held at the National Institutes of Health, 6701 Rockledge Drive, Bethesda, MD 20892 on December 17, 2013. The meeting will start at 10:00 a.m. and end at 6:00 p.m. The meeting is closed to the public.

Dated: October 25, 2013.
Anna Snouffer,
Deputy Director, Office of Federal Advisory Committee Policy.

[FR Doc. 2013-25774 Filed 10-29-13; 8:45 am]

BILLING CODE 4140-01-P